DEPARTMENT OF ENERGY

Federal Energy Regulatory Commission

Combined Notice of Filings #1

Take notice that the Commission received the following electric corporate filings:

Docket Numbers: EC17-128-000.

Applicants: Beech Ridge Energy LLC, Beech Ridge Energy II LLC, Beech Ridge Energy Storage LLC, Bishop Hill Energy III LLC, Bishop Hill Interconnection LLC, Buckeye Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Prairie Breeze Wind Energy II LLC, Prairie Breeze Wind Energy III LLC, Sheldon Energy LLC, Spring Canyon Energy LLC, Stony Creek Energy LLC, Vantage Wind Energy LLC, Willow Creek Energy LLC, Wolverine Creek Energy LLC, Wolverine Creek Goshen Interconnection LLC.

Description: Application for Authorization Under Section 203 of the Federal Power Act and Request for Waivers and Expedited Action of Beech Ridge Energy LLC, et al.

Filed Date: 6/8/17.

Accession Number: 20170608-5182.

Comments Due: 5 p.m. ET 6/29/17.

Take notice that the Commission received the following electric rate filings:

Docket Numbers: ER17-1167-001.

Applicants: New York Independent System Operator, Inc.

Description: Compliance filing: NYISO filing re: Effective date notice—MST Attachment K revisions to be effective 6/22/2017.

Filed Date: 6/8/17.

Accession Number: 20170608-5149.

Comments Due: 5 p.m. ET 6/29/17.

Docket Numbers: ER17-1226-001.

Applicants: Midcontinent Independent System Operator, Inc., Entergy Services, Inc.

Description: Compliance filing: 2017-06-08_Filing to update Entergy New Orleans (ENO) Attachment O to be effective 6/1/2017.

Filed Date: 6/8/17.

Accession Number: 20170608-5119.

Comments Due: 5 p.m. ET 6/29/17.

Docket Numbers: ER17-1778-000.

Applicants: HD Project One LLC.

Description: Baseline eTariff Filing: MBRA Tariff to be effective 6/9/2017.

Filed Date: 6/8/17.

Accession Number: 20170608-5120.

Comments Due: 5 p.m. ET 6/29/17.

Docket Numbers: ER17-1779-000.

Applicants: The Connecticut Light and Power Company.

Description: Notice of Cancellation of The Connecticut Light and Power Company Interconnection Service Agreement No. 101.

Filed Date: 6/8/17.

Accession Number: 20170608-5143.

Comments Due: 5 p.m. ET 6/29/17.

Docket Numbers: ER17-1780-000.

Applicants: Midcontinent Independent System Operator, Inc.

Description: § 205(d) Rate Filing: 2017-06-09_SA 1677 Illinois Power-Ameren Amended GIA (G436 G983 G984) to be effective 5/25/2017.

Filed Date: 6/9/17.

Accession Number: 20170609-5039.

Comments Due: 5 p.m. ET 6/30/17.

Docket Numbers: ER17-1781-000.

Applicants: ArcLight Energy Marketing, LLC.

Description: Tariff Cancellation: Notice of Cancellation to be effective 6/30/2017.

Filed Date: 6/9/17.

Accession Number: 20170609-5054.

Comments Due: 5 p.m. ET 6/30/17.

Take notice that the Commission received the following electric securities filings:

Docket Numbers: ES17-34-000.

Applicants: Central Maine Power Company.

Description: Application of Central Maine Power Company for Authorization to Issue Short-Term Debt Under Section 204 of the Federal Power Act.

Filed Date: 6/8/17.

Accession Number: 20170608-5184.

Comments Due: 5 p.m. ET 6/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2017.
Kimberly D. Bose,
Secretary.

[FR Doc. 2017-12390 Filed 6-14-17; 8:45 am]

BILLING CODE 6717-01-P